ENVIRONMENTAL PROTECTION AGENCY

[EPA-HQ-OECA-2013-0316; FRL—10017-65-OMS]

Information Collection Request Submitted to OMB for Review and Approval; Comment Request; NSPS for Onshore Natural Gas Processing Plants (Renewal)

AGENCY: Environmental Protection Agency (EPA).

ACTION: Notice.

SUMMARY: The Environmental Protection Agency has submitted an information collection request (ICR), NSPS for Onshore Natural Gas Processing Plants (EPA ICR Number 1086.12, OMB Control Number 2060-0120), to the Office of Management and Budget (OMB) for review and approval in accordance with the Paperwork Reduction Act. This is a proposed extension of the ICR, which is currently approved through January 31, 2021. Public comments were previously requested, via the Federal Register, on May 12, 2020 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 31, 2020.

ADDRESSES: Submit your comments, referencing Docket ID Number EPA-HQ-OECA-2013-0316, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: Owners and operators of affected onshore natural gas processing plants are required to comply with reporting and record keeping requirements for the General Provisions (40 CFR part 60, subpart A), as well as for the specific requirements at 40 CFR part 60, subparts KKK and LLL. Owners or operators of the affected facilities must submit a one-time-only report of any physical or operational changes, initial performance tests, and periodic reports and results. Owners or operators are also required to maintain records of the occurrence and duration of any startup, shutdown, or malfunction in the operation of an affected facility, or any period during which the monitoring system is inoperative. These reports are used by EPA to determine compliance with these same standards.

Form Numbers: None.

Respondents/affected entities: Owners and operators of onshore natural gas processing plants that that commenced construction, reconstruction, or modification after January 20, 1984, and on or before August 23, 2011.

Respondent's obligation to respond: Mandatory (40 CFR part 60, subpart KKK and 40 CFR part 60, subpart LLL).

Estimated number of respondents: 362 (total).

Frequency of response: Semiannually.

Total estimated burden: 67,500 hours per year. Burden is defined at 5 CFR 1320.3(b).

Total estimated cost: Total labor costs are $7,990,000 (per year), which includes $68,400 in annualized capital/startup and/or operation & maintenance costs.

Changes in the Estimates: There is an adjustment decrease in the total estimated burden as currently identified in the OMB Inventory of Approved Burdens. This increase is not due to any program changes. The change in the burden and cost estimates occurred because the number of respondents subject to these requirements has decreased as those respondents modify their sources and become subject to another NSPS standard. As sources subject to NSPS Subparts KKK and LLL modify, they become subject to NSPS Subpart OOOOa and cease being subject to NSPS Subparts KKK and LLL. There is also a decrease in the estimated number of respondents subject to NSPS Subpart LLL. This is due to a re-examination of the Agency's ECHO database of sources subject to Subpart LLL with a NAICS code of 211130 (natural gas extraction) and reporting SO2 emissions.

Courtney Kerwin,
Director, Regulatory Support Division.

[FR Doc. 2020-26474 Filed 11-30-20; 8:45 am]

BILLING CODE 6560-50-P